FEDERAL EMERGENCY MANAGEMENT AGENCY

[FEMA-1360-DR]

Mississippi; Amendment No. 1 to Notice of a Major Disaster Declaration

AGENCY: Federal Emergency Management Agency (FEMA).

ACTION: Notice.

SUMMARY: This notice amends the notice of a major disaster for the State of Mississippi (FEMA-1360-DR), dated February 23, 2001, and related determinations.

EFFECTIVE DATE: February 27, 2001.

FOR FURTHER INFORMATION CONTACT: Madge Dale, Response and Recovery Directorate, Federal Emergency Management Agency, Washington, DC 20472, (202) 646-3772.

SUPPLEMENTARY INFORMATION: Notice is hereby given of the reopening of the incident period for this disaster. The incident period for this declared disaster is now February 16, 2001 and continuing.

The notice is further amended to include the following areas among those areas determined to have been adversely affected by the catastrophe declared a major disaster by the President in his declaration of February 23, 2001:

The counties of Bolivar, Lee, Leflore, Pontotoc, Prentiss, and Tallahatchie, and the contiguous counties of Alcorn, Attala, Calhoun, Carroll, Chickasaw, Choctaw, Clay, Coahoma, Grenada, Humphreys, Itawamba, Lafayette, Madison, Monroe, Noxubee, Panola, Quitman, Sunflower, Tippah, Tishomingo, Union, Washington, Webster, Winston, Yalobusha, and Yazoo for Individual Assistance

The counties of Attala, Choctaw, Clay, Noxubee, Winston, and Yazoo for Public Assistance.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program)

Joe M. Allbaugh,
Director.

[FR Doc. 01-5843 Filed 3-8-01; 8:45 am]

BILLING CODE 6718-02-P